DEPARTMENT OF LABOR

Mine Safety and Health Administration

30 CFR Parts 58 and 72

RIN 1219-AB24

Measuring and Controlling Asbestos Exposure

AGENCY: Mine Safety and Health Administration, Labor.

ACTION: Notice of change to public meetings.

SUMMARY: The Mine Safety and Health Administration is announcing a change in the date of one of our public meetings concerning the measurement and control of miners' exposure to asbestos. These meetings were announced March 29, 2002 in the Federal Register (67 FR 15134) in conjunction with an Advanced Notice of Proposed Rulemaking and Close of Record Notice. We are changing the date of the Charlottesville, Virginia meeting and adding a seventh public meeting in Phoenix, Arizona.

DATES: The public meeting in Phoenix, Arizona will be held on June 5, 2002. The public meeting in Charlottesville, Virginia will be held on June 20, 2002. The dates and locations of the other public meetings are listed in the Public Meetings section below under SUPPLEMENTARY INFORMATION for the convenience of the public.

You do not have to submit a written request to speak. There will be a sign-up sheet at each of the meeting locations. Speakers will speak in the order that they sign in. Speakers may also present information to the MSHA panel for inclusion in the rulemaking record.

ADDRESSES: The public meeting in Phoenix, Arizona will be held at the Hampton Inn Phoenix Midtown, 160 West Catalina Drive, Phoenix, AZ 85013 ((602) 200-0990). The public meeting in Charlottesville, Virginia will be held at the Holiday Inn, 1901 Emmet Street, Charlottesville, VA 22901 ((434) 977-7700). The public meeting dates and locations of the other five public meetings are listed in the Public Meetings section below under SUPPLEMENTARY INFORMATION for the convenience of the public.

FOR FURTHER INFORMATION CONTACT: Marvin W. Nichols, Jr., Director; Office of Standards, Regulations, and Variances; MSHA, 4015 Wilson Boulevard, Arlington, Virginia 22203-1984. Mr. Nichols can be reached at nichols-marvin@msha.gov (E-mail), (703) 235-1910 (Voice), or 703-235-5551 (Fax).

SUPPLEMENTARY INFORMATION:

I. Public Meetings

The public meetings will be held on the following dates and at these locations:

Date | Location | Phone
May 2nd | Ramada Inn, 164 Fort Couch Road, Pittsburgh, PA 15241 | (412) 833-5300.
May 14th | Days Inn, 4212 W Sunset Blvd, Spokane, WA 99224 | (509) 747-2021.
May 16th | Hampton Inn & Suites, 800 Mason Street, Vacaville, CA 95687 | (707) 469-6200.
May 29th | Best Western, 90 E Main Street, Canton, NY 13617 | (315) 386-8522.
June 5th | Hampton Inn Phoenix Midtown, 160 West Catalina Drive, Phoenix, AZ 85013 | (602) 200-0990.
June 12th | Days Inn, 701 Hattrick Ave, Virginia, MN 55734 | (218) 744-2703.
June 20th | Holiday Inn, 1901 Emmet Street Charlottesville, VA 22901 | (434) 977-7700.

The public meetings will begin at 9 a.m. and end after the last speaker appears; and in any event, not later than 5 p.m. each day.

Dated: April 12, 2002.
John R. Caylor,
Deputy Assistant Secretary of Labor for Mine Safety and Health.

[FR Doc. 02-9482 Filed 4-17-02; 8:45 am]

BILLING CODE 4510-43-P